COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: December 15, 2024.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) and service(s) are proposed for deletion from the Procurement List:

Product(s)

NSN(s)—Product Name(s):

8415-01-584-1635—Trousers, Intermediate Weather Outer Layer (IWOL) Layer 6 FREE, Army, OEFCP, XSS

8415-01-584-1637—Trousers, Intermediate Weather Outer Layer (IWOL) Layer 6 FREE, Army, OEFCP, XSR

8415-01-584-1639—Trousers, Intermediate Weather Outer Layer (IWOL) Layer 6 FREE, Army, OEFCP, XSL

8415-01-584-1640—Trousers, Intermediate Weather Outer Layer (IWOL) Layer 6 FREE, Army, OEFCP, SS

8415-01-584-1641—Trousers, Intermediate Weather Outer Layer (IWOL) Layer 6 FREE, Army, OEFCP, SR

8415-01-584-1642—Trousers, Intermediate Weather Outer Layer (IWOL) Layer 6 FREE, Army, OEFCP, SL

8415-01-584-1643—Trousers, Intermediate Weather Outer Layer (IWOL) Layer 6 FREE, Army, OEFCP, MS

8415-01-584-1644—Trousers, Intermediate Weather Outer Layer (IWOL) Layer 6 FREE, Army, OEFCP, MR

8415-01-584-1645—Trousers, Intermediate Weather Outer Layer (IWOL) Layer 6 FREE, Army, OEFCP, ML

8415-01-584-1648—Trousers, Intermediate Weather Outer Layer (IWOL) Layer 6 FREE, Army, OEFCP, LS

8415-01-584-1649—Trousers, Intermediate Weather Outer Layer (IWOL) Layer 6 FREE, Army, OEFCP, LR

8415-01-584-1654—Trousers, Intermediate Weather Outer Layer (IWOL) Layer 6 FREE, Army, OEFCP, LL

8415-01-584-1655—Trousers, Intermediate Weather Outer Layer (IWOL) Layer 6 FREE, Army, OEFCP, XLS

8415-01-584-1656—Trousers, Intermediate Weather Outer Layer (IWOL) Layer 6 FREE, Army, OEFCP, XLR

8415-01-584-1663—Trousers, Intermediate Weather Outer Layer (IWOL) Layer 6 FREE, Army, OEFCP, XLL

8415-01-584-1665—Trousers, Intermediate Weather Outer Layer (IWOL) Layer 6 FREE, Army, OEFCP, XXLS

8415-01-584-1672—Trousers, Intermediate Weather Outer Layer (IWOL) Layer 6 FREE, Army, OEFCP, XXLR

8415-01-584-1674—Trousers, Intermediate Weather Outer Layer (IWOL) Layer 6 FREE, Army, OEFCP, XXLL

Authorized Source of Supply: San Antonio Lighthouse for the Blind, San Antonio, TX

Contracting Activity: W6QK ACC-APG NATICK, NATICK, MA

NSN(s)—Product Name(s):

8415-01-583-9445—Jacket, Intermediate Weather Outer Layer (IWOL) Layer 6 FREE, Army, OEFCP, ML

8415-01-583-9447—Jacket, Intermediate Weather Outer Layer (IWOL) Layer 6 FREE, Army, OEFCP, LS

8415-01-583-9449—Jacket, Intermediate Weather Outer Layer (IWOL) Layer 6 FREE, Army, OEFCP, LR

8415-01-583-9450—Jacket, Intermediate Weather Outer Layer (IWOL) Layer 6 FREE, Army, OEFCP, LL

8415-01-583-9451—Jacket, Intermediate Weather Outer Layer (IWOL) Layer 6 FREE, Army, OEFCP, XLS

8415-01-583-9453—Jacket, Intermediate Weather Outer Layer (IWOL) Layer 6 FREE, Army, OEFCP, XLR

8415-01-583-9454—Jacket, Intermediate Weather Outer Layer (IWOL) Layer 6 FREE, Army, OEFCP, XLL

8415-01-583-9455—Jacket, Intermediate Weather Outer Layer (IWOL) Layer 6 FREE, Army, OEFCP, XXLS

8415-01-583-9456—Jacket, Intermediate Weather Outer Layer (IWOL) Layer 6 FREE, Army, OEFCP, XXLR

8415-01-583-9458—Jacket, Intermediate Weather Outer Layer (IWOL) Layer 6 FREE, Army, OEFCP, XXLL

8415-01-583-9470—Jacket, Intermediate Weather Outer Layer (IWOL) Layer 6 FREE, Army, OEFCP, XSS

8415-01-583-9471—Jacket, Intermediate Weather Outer Layer (IWOL) Layer 6 FREE, Army, OEFCP, XSR

8415-01-583-9474—Jacket, Intermediate Weather Outer Layer (IWOL) Layer 6 FREE, Army, OEFCP, XSL

8415-01-583-9479—Jacket, Intermediate Weather Outer Layer (IWOL) Layer 6 FREE, Army, OEFCP, SS

8415-01-583-9480—Jacket, Intermediate Weather Outer Layer (IWOL) Layer 6 FREE, Army, OEFCP, SR

8415-01-583-9483—Jacket, Intermediate Weather Outer Layer (IWOL) Layer 6 FREE, Army, OEFCP, SL

8415-01-583-9485—Jacket, Intermediate Weather Outer Layer (IWOL) Layer 6 FREE, Army, OEFCP, MS

8415-01-583-9488—Jacket, Intermediate Weather Outer Layer (IWOL) Layer 6 FREE, Army, OEFCP, MR

Authorized Source of Supply: Winston-Salem Industries for the Blind, Inc, Winston-Salem, NC

Contracting Activity: W6QK ACC-APG NATICK, NATICK, MA

NSN(s)—Product Name(s):

8415-01-546-0124—Shirt, Underwear, Midweight Cold Weather Gen III, ECWCS, Army, Desert Sand, X-Small/Short

8415-01-546-0128—Shirt, Underwear, Midweight Cold Weather Gen III, ECWCS, Army, Desert Sand, X-Small/Regular

8415-01-546-0160—Shirt, Underwear, Midweight Cold Weather Gen III, ECWCS, Army, Desert Sand, Small/Short

8415-01-538-8598—Shirt, Underwear, Midweight Cold Weather Gen III, ECWCS, Army, Desert Sand, Small/Regular

8415-01-546-0166—Shirt, Underwear, Midweight Cold Weather Gen III, ECWCS, Army, Desert Sand, Small/Long

8415-01-538-8614—Shirt, Underwear, Midweight Cold Weather Gen III, ECWCS, Army, Desert Sand, Medium/Regular

8415-01-546-0305—Shirt, Underwear, Midweight Cold Weather Gen III, ECWCS, Army, Desert Sand, Medium/Long

8415-01-538-8621—Shirt, Underwear, Midweight Cold Weather Gen III, ECWCS, Army, Desert Sand, Large/Regular

8415-01-538-8701—Shirt, Underwear, Midweight Cold Weather Gen III, ECWCS, Army, Desert Sand, Large/Long

8415-01-538-8705—Shirt, Underwear, Midweight Cold Weather Gen III, ECWCS, Army, Desert Sand, X-Large/Regular

8415-01-538-8711—Shirt, Underwear, Midweight Cold Weather Gen III, ECWCS, Army, Desert Sand, X-Large/Long

8415-01-546-0362—Shirt, Underwear, Midweight Cold Weather Gen III, ECWCS, Army, Desert Sand, X-Large/X-Long

8415-01-546-0369—Shirt, Underwear, Midweight Cold Weather Gen III, ECWCS, Army, Desert Sand, XX-Large/Regular

8415-01-546-0370—Shirt, Underwear, Midweight Cold Weather Gen III, ECWCS, Army, Desert Sand, XX-Large/Long

8415-01-546-0374—Shirt, Underwear, Midweight Cold Weather Gen III, ECWCS, Army, Desert Sand, XX-Large/X-Long

Authorized Source of Supply: Peckham Vocational Industries, Inc., Lansing, MI

Authorized Source of Supply: Knox County Association for Remarkable Citizens, Inc., Vincennes, IN

Authorized Source of Supply: TradeWinds Services, Inc., Merrillville, IN

Authorized Source of Supply: BESTWORK INDUSTRIES FOR THE BLIND, INC, Cherry Hill, NJ

Contracting Activity: DLA TROOP SUPPORT, PHILADELPHIA, PA

Contracting Activity: DLA TROOP SUPPORT, PHILADELPHIA, PA

NSN(s)—Product Name(s):

6645-01-698-6558—Clock, Wall, Quartz, “Think Safety”, 12¾″ Diameter, Black Frame

Mandatory Source of Supply: Chicago Lighthouse Industries, Chicago, IL

Contracting Activity: GSA/FAS ADMIN SVCS ACQUISITION BR(2, NEW YORK, NY

NSN(s)—Product Name(s):

8540-01-378-6218—Tissue, Toilet, Jumbo, 1-Ply, 3.5″ x 4000′, White, 6 Rolls

Authorized Source of Supply: Outlook Nebraska, Inc, Omaha, NE

Contracting Activity: GSA/FAS ADMIN SVCS ACQUISITION BR(2, NEW YORK, NY

Service(s)

Service Type: Grounds Maintenance

Authorized for: U.S. Army Reserve Center: 1850 Baltimore Road Maus-Warfield, Rockville, MD

Contracting Activity: DEPT OF THE ARMY, W6QM MICC CTR-FT DIX (RC)

Service Type: Grounds Maintenance and Snow Removal

Mandatory for: US Army Corps of Engineers, Walla Walla District Headquarters, 201 North Third Ave., Walla Walla, WA

Authorized Source of Supply: Lillie Rice Center, Inc., Walla Walla, WA

Contracting Activity: DEPT OF THE ARMY, W071 ENDIST WALLA WALLA

Michael R. Jurkowski,
Director, Business Operations.

[FR Doc. 2024-26660 Filed 11-14-24; 8:45 am]

BILLING CODE 6353-01-P